DEPARTMENT OF JUSTICE

Antitrust Division

Notice Pursuant to the National Cooperative Research and Production Act of 1993—DVD Copy Control Association (“DVD CCA”)

Notice is hereby given that, on July 2, 2004, pursuant to section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Evatone, Inc., Clearwater, FL; Optrom, Inc., Miyagi-ken, JAPAN; Rainbo Records Mfg. Corp., Santa Monica, CA; Shanghai Epic Music Manufacturing Operations, Shanghai, People's Republic of China; Shenzhen Vall Technology Co., Ltd., Shenzhen, People's Republic of China; and Taiwan Thick—Film Ind. Corp, Taipei Hsien, Taiwan have been added as parties to this venture. Also, Regency Recordings has changed its name to AAV Regency, Braeside, Victoria, Australia.

No other changes have been made in either the membership or planned activity of the group research project. Membership in this group research project remains open, and DVD CCA intends to file additional written notification disclosing all changes in membership.

On April 11, 2001, DVD CCA filed its original notification pursuant to section 6(a) of the Act. The Department of Justice published a notice in the Federal Register pursuant to section 6(b) of the Act on August 3, 2001 (66 FR 40727).

The last notification was filed with the Department on January 6, 2004. A notice was published in the Federal Register pursuant to section 6(b) of the Act on February 12, 2004 (69 FR 7013).

Dorothy B. Fountain,
Deputy Director of Operations, Antitrust Division.

[FR Doc. 04-17997 Filed 8-5-04; 8:45 am]

BILLING CODE 4410-11-M